DEPARTMENT OF VETERANS AFFAIRS

[OMB Control No. 2900-0028]

Agency Information Collection Activities Under OMB Review

AGENCY: Office of Information and Technology, Department of Veterans Affairs.

ACTION: Notice.

SUMMARY: In compliance with the Paperwork Reduction Act (PRA) of 1995 (44 U.S.C., 3501 et seq.), this notice announces that the Office of Information and Technology, Department of Veterans Affairs, has submitted the collection of information abstracted below to the Office of Management and Budget (OMB) for review and comment. The PRA submission describes the nature of the information collection and its expected cost and burden; it includes the actual data collection instrument.

DATES: Comments must be submitted on or before October 25, 2002.

FOR FURTHER INFORMATION OR A COPY OF THE SUBMISSION CONTACT: Denise McLamb, Information Management Service (005E3), Department of Veterans Affairs, 810 Vermont Avenue, NW, Washington, DC 20420, (202) 273-8030 or FAX (202) 273-5981 or e-mail: denise.mclamb@mail.va.gov. Please refer to “OMB Control No. 2900-0028”.

Send comments and recommendations concerning any aspect of the information collection to VA's Desk Officer, OMB Human Resources and Housing Branch, New Executive Office Building, Room 10235, Washington, DC 20503 (202) 395-7316. Please refer to “OMB Control No. 2900-0028”.

SUPPLEMENTARY INFORMATION:

Titles:

a. Application of Service Representative for Placement on Mailing List, VA Form 3215.

b. Request to Correspondent for Identifying Information, VA Form Letter 70-2.

c. Request for and Consent to Release of Information from Claimant's Records, VA Form 3288.

d. 38 CFR(A) 1.519 Lists of Names and Addresses.

OMB Control Number: 2900-0028.

Type of Review: Extension of a currently approved collection.

Abstract:

a. VA operates an outreach services program to ensure veterans and beneficiaries have information about benefits and services to which they may be entitled. To support the program, VA distributes copies of publications to veterans service organizations' representatives to use in rendering services and representation of veterans, their spouses and dependents. The information collected on VA Form 3215 is used to process a request from a service organization to be placed on the mailing list for specific VA publications.

b. VA Form Letter 70-2 is used to obtain additional information from a correspondent when the incoming correspondence does not provide sufficient information to identify a veteran. VA personnel use the information to identify the veteran, determine the location of a specific file, and to accomplish the action requested by the correspondent such as; process a benefit claim or file material in the individual's claims folder. Completion of the form is voluntary and failure to furnish the requested information has no adverse effect on either the veteran or the correspondent.

c. VA Form 3288 is completed by veterans or beneficiaries to provide VA with a written consent to release records or information to third parties such as insurance companies, physicians and other individuals.

d. Title 38, U.S.C., 5701(f)(1) authorizes VA to disclose mailing lists of veterans and their dependents to nonprofit organizations, but only for certain specific and narrow purposes. Criminal penalties are provided for improper use of the list by the organization in violation of subsection (f) limitations. The information collection in this regulation ensures that any disclosure of a list under this subsection is authorized by law. VA must ascertain that the applicant is a nonprofit organization and intends to use the list for a proper purpose; if not, Title 38, U.S.C., 5701(a) prohibits disclosure.

An agency may not conduct or sponsor, and a person is not required to respond to a collection of information unless it displays a currently valid OMB control number. The Federal Register Notice with a 60-day comment period soliciting comments on this collection of information was published on June 13, 2002, at pages 40770-40771.

Affected Public: Individuals or households, not for profit institutions, and State, local or tribal government.

Estimated Annual Burden: 22,700 hours.

a. Application of Service Representative for Placement on Mailing List, VA Form 3215—25 hours.

b. Request to Correspondent for Identifying Information, VA Form Letter 70-2—3,750 hours.

c. Request for and Consent to Release of Information From Claimant's Records, VA Form 3288—18,875 hours.

d. 38 CFR(A) 1.519 Lists of Names and Addresses—50 hours.

Estimated Average Burden Per Respondent:

a. Application of Service Representative for Placement on Mailing List, VA Form 3215—10 minutes.

b. Request to Correspondent for Identifying Information, VA Form Letter 70-2—5 minutes.

c. Request for and Consent to Release of Information From Claimant's Records, VA Form 3288—7.5 minutes.

d. 38 CFR(A) 1.519 Lists of Names and Addresses—60 minutes.

Frequency of Response: On occasion.

Estimated Number of Respondents: 196,200.

a. Application of Service Representative for Placement on Mailing List, VA Form 3215—150.

b. Request to Correspondent for Identifying Information, VA Form Letter 70-2—45,000.

c. Request for and Consent to Release of Information From Claimant's Records, VA Form 3288—151,000.

d. 38 CFR(A) 1.519 Lists of Names and Addresses—50.

Dated: September 5, 2002.
By direction of the Secretary.
Ernesto Castro,
Director, Records Management Service.

[FR Doc. 02-23911 Filed 9-24-02; 8:45 am]

BILLING CODE 8320-01-M